DEPARTMENT OF COMMERCE

U.S. Census Bureau

Proposed Information Collection; Comment Request; Public Employment & Payroll Forms

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before September 27, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Erika Becker-Medina, Chief, Employment and Benefit Statistics Branch, Governments Division, U.S. Census Bureau, Washington, DC 20233-6800 (301-763-1494 or Erika.H.Becker.Medina@census.gov).

SUPPLEMENTARY INFORMATION:

I. Abstract

The Census Bureau plans to request clearance for the forms necessary to conduct the public employment and payroll program which consists of an annual collection of information and a quinquennial collection in a census environment in years ending in “2” or “7”. During the upcoming two years, we intend to conduct the 2012 Census of Governments: Employment Component and the 2013 Annual Survey of Public Employment & Payroll.

Under Title 13, Section 161 & 182, of the United States Code, the Secretary of Commerce is authorized to conduct the public employment and payroll program, which collects and disseminates data by function for full-time and part-time employees, payroll, and number of part-time hours worked. The number and content of the data items collected are the same in the annual and census cycles.

The burden hours we will request are based on the expected 2012 Census of Governments: Employment Component mail-out of 99,935 forms and the expected 2013 Annual Survey of Public Employment & Payroll mail out of 17,209 forms.

The state and local government statistics produced cover national, state, and local aggregates on various functions with comparative detail for individual governments for the pay period that includes March 12. The public employment and payroll program provides the only comprehensive count of employees and payrolls of state and local governments. Government employees constitute approximately one-sixth of the entire U.S. workforce and their salaries are a major source of personal income.

The Census Bureau provides this employment data to the Bureau of Economic Analysis for constructing the functional payrolls in the public sector of the Gross Domestic Product; payroll being the single largest component of current operations. The public employment and payroll program has increasingly been used as the base for reimbursable programs conducted by the Census Bureau for other Federal agencies such as: (1) The government portion of the Medical Expenditure Panel Survey commissioned by the Agency for Healthcare Research and Quality to provide timely, comprehensive information about health care use and costs in the United States, and (2) the Criminal Justice Expenditure and Employment Survey, sponsored by the Bureau of Justice Statistics (BJS), which provides criminal justice expenditure and employment data on spending and personnel levels.

Statistics are produced as data files in electronic formats. The program has disseminated comprehensive and comparable governmental statistics since 1940.

The users of the public employment and payroll program data include Federal agencies, state and local governments and related organizations, public interest groups, and many business, market, and private research organizations.

II. Method of Collection

Approximately 104,000 state agencies, county governments, consolidated city-county governments, independent cities, towns, townships, special district governments, and public school systems designated for the 2012 Census of Governments: Employment Component will either be sent an appropriate form or their data will be collected through a data sharing arrangement between the Census Bureau and the government unit. Approximately 20,800 government units will be sent a form or collected through data sharing arrangements for the 2013 Annual Survey of Public Employment & Payroll.

The Census Bureau developed central collection agreements with state and large local government officials to collect the data from their dependent agencies and report to us as a central respondent. These arrangements eliminate the need for a mail canvass of approximately 3,480 state agencies and 620 school systems. The agreements reduce burden by greatly reducing the number of people who have to complete a form as the data are pulled from a centralized source instead of from multiple sources. Currently, the Census Bureau has central collection agreements with forty-five states, four local school district governments, and ten local governments. The Census Bureau continues to expand the conversion of paper submissions into electronic formats, for both individual units and central collection units.

All form types can be completed on the Internet. For the 2007 Census, approximately 24 percent responded using the Census Bureau's Web site. For the 2010 annual survey, approximately 45 percent of the governments sampled responded using the Census Bureau's Web site.

III. Data

OMB Control Number: 0607-0452.

Form Number: E-1, E-2, E-3, E-4, E-5, E-6, E-7, E-9.

Type of Review: Regular submission.

Affected Public: State, Tribal, or local governments.

Estimated Number of Respondents: 58,572.

Estimated Time per Response: The average for all forms is 49 minutes.

Estimated Total Annual Burden Hours: 47,904.

Estimated Total Annual Cost: $1,161,709.

Respondents Obligation: Voluntary.

Legal Authority: Title 13 U.S.C. Section 161 & 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 26, 2011.
Glenna Mickelson,
Management Analyst, Office of the Chief Information Officer.

[FR Doc. 2011-19284 Filed 7-28-11; 8:45 am]

BILLING CODE 3510-07-P